ENVIRONMENTAL PROTECTION AGENCY

[EPA-HQ-OPP-2005-0252; FRL-9375-9]

Iodomethane; Cancellation Order for Pesticide Registrations and Label Amendment

AGENCY: Environmental Protection Agency (EPA).

ACTION: Notice.

SUMMARY: This notice announces EPA's order for the cancellation, voluntarily requested by the registrant and accepted by the Agency, of products containing iodomethane, pursuant to the Federal Insecticide, Fungicide, and Rodenticide Act (FIFRA). This cancellation order follows a November 21, 2012 Federal Register Notice of Receipt of Request from the registrant listed in Table 3 of Unit II. to voluntarily cancel all these product registrations and to amend the technical/manufacturing-use label. These are the last products containing this pesticide registered for use in the United States. In the November 21, 2012 notice, EPA indicated that it would issue an order implementing the cancellations and amendment, unless the Agency received substantive comments within the 30-day comment period that would merit its further review of these requests. The Agency received one comment on the notice, but it did not merit further review of the requests. Further, the registrant did not withdraw their request. Accordingly, EPA hereby issues this order granting the requested cancellations and amendment. Any distribution, sale, or use of the products subject to this cancellation order is permitted only in accordance with the terms of this order, including any existing stocks provisions.

DATES: The cancellations of the end-use product registration are effective December 31, 2012. The cancellation of the technical product is effective December 1, 2015. The amendment to the technical label is effective January 1, 2013.

FOR FURTHER INFORMATION CONTACT: Andrea Mojica, Pesticide Re- Evaluation Division (7508P), Office of Pesticide Programs, Environmental Protection Agency, 1200 Pennsylvania Ave. NW., Washington, DC 20460-0001; telephone number: (703) 308-0122; fax number: (703) 308-8090; email address: mojica.andrea@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2005-0252, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellation(s) and label amendment of the products listed in Tables 1 and 2, as requested by the registrant of these products, which are registered under FIFRA section 3. These registrations are listed in sequence by registration number in Tables 1 and 2 of this unit.

Table 1—Iodomethane Product Cancellations
EPA Registration No. | Product name
66330-43 | Midas 98:2.
66330-44 | Iodomethane Technical.
66330-57 | Midas 50:50.
66330-58 | Midas EC Bronze.
66330-59 | Midas 33:67.
66330-60 | Midas EC Gold.

Table 2—Iodomethane Product Registration Amendments
EPA Registration No. | Product name
66330-44 | Iodomethane Technical.

Table 3 of this unit includes the name and address of record for the registrant of the products in Tables 1 and 2 of this unit.

Table 3—Registrants of Cancelled and Amended Products
EPA Company No. | Company name and address
66330 | Arysta LifeScience North America, 15401 Weston Parkway, Suite 150, Cary, NC 27513.

III. Summary of Public Comments Received and Agency Response to Comments

During the public comment period provided, EPA received one comment in response to the November 21, 2012 Federal Register notice announcing the Agency's receipt of the request for voluntary cancellation of the products listed in Table 1of Unit 2, and the label amendment of the product listed in Table 2 of Unit II. The Pesticide Action Network International (PAN) expressed support for the proposed cancellations. However, PAN also requested that EPA prohibit the use of the iodemethane technical product in the U.S. to formulate products for export. In the November 21, 2012 notice, EPA referenced a Memorandum of Agreement (MOA) between the technical registrant for iodomethane and EPA. One provision of the MOA requires Arysta to voluntarily amend its technical product label to only allow sale and distribution for export purposes after January 1, 2013. Section 17 of FIFRA (7 U.S.C. 136o), and EPA regulations at 40 CFR part 168 Subpart D have specific requirements that apply to the export of unregistered pesticide, but these provisions do not provide EPA with authority to ban the export of pesticides registered under Section 3 of FIFRA, or cancelled pesticides. For these reasons, the Agency does not believe that the comment submitted by PAN merits further review or a denial of the requests for voluntary cancellation and a label amendment.

IV. Cancellation Order

Pursuant to FIFRA section 6(f), EPA hereby approves the requested cancellations and label amendment of the iodomethane registrations identified in Tables 1 and 2 of Unit II. Accordingly, the Agency hereby orders that the product registrations identified in Tables 1 and 2 of Unit II. are canceled and the product registration identified in Table 2 of Unit II. is amended. The effective date of the cancellation for the following products that are subject of this notice, EPA Registration Numbers 66330-43, 66330-57, 66330-58, 66330-59 and 66330-60, is December 31, 2012. The effective date of the cancellation for EPA Registration Number 66330-44 is December 1, 2015. Any distribution, sale, or use of existing stocks of the products identified in Tables 1 and 2 of Unit II. in a manner inconsistent with any of the provisions for disposition of existing stocks set forth in Unit VI. will be a violation of FIFRA. Within 30 days of the date of publication of this order, Arysta shall send the following documents by certified mail, return receipt requested, to every person who purchased any such product directly from Arysta since December 31, 2011; and to every retailer known to Arysta to have sold any end-use product since December 31, 2011: A letter that identifies or indicates:

1. The iodomethane product(s) that were purchased and the dates of such purchase.

2. That any distribution or sale of Arysta's end-use iodomethane products will be unlawful under FIFRA after December 31, 2012.

3. That Arysta's end-use iodomethane products in users' possession may not be used after December 31, 2012.

4. That after December 31, 2012, all remaining existing stocks of Arysta's iodomethane end-use products must be disposed of in accordance with all applicable state and Federal laws or returned to Arysta; and a hard copy of the actual cancellation order as published in the Federal Register.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment on November 21, 2012 (77 FR 69840) (FRL-9370-2). The comment period closed on December 21, 2012.

VI. Provisions for Disposition of Existing Stocks

Existing stocks are those stocks of registered pesticide products which are currently in the United States and which were packaged, labeled, and released for shipment prior to the effective date of the action. The existing stocks provision for the products subject to this order is as follows.

As of December 1, 2015, all sale and distribution of existing stocks of Arysta's iodomethane technical/manufacturing-use product, EPA Reg. No. 66330-44, by Arysta shall be prohibited unless the sale or distribution is for proper disposal or is solely for purposes of export consistent with the requirements of section 17 of FIFRA.

As of December 31, 2012, Arysta is prohibited from distributing or selling existing stocks of end-use products, EPA Registration Nos. 66330-43, 66330-57, 66330-58, 66330-59 and 66330-60 unless the sale or distribution is for proper disposal, or is solely for export consistent with the requirements of FIFRA section 17; persons other than Arysta are prohibited from distributing or selling existing stocks of Arysta's end-use products, EPA Registration Number 66330-43, 66330-57, 66330-58, 66330-59 and 66330-60, unless the sale or distribution is for proper disposal, return to Arysta, or is intended solely for export consistent with the requirements of FIFRA section 17; and no person may use any existing stocks of any of Arysta's end-use products EPA Registration Numbers. 66330-43, 66330-57, 66330-58, 66330-59 and 66330-60.

List of Subjects

Environmental protection, Pesticides and pests.

Dated: December 28, 2012.
Richard P. Keigwin, Jr.,
Director, Pesticide Re-Evaluation Division, Office of Pesticide Programs.

[FR Doc. 2013-00732 Filed 1-15-13; 8:45 am]

BILLING CODE 6560-50-P